FEDERAL COMMUNICATIONS COMMISSION

[OMB 3060-0798; FRS 16943]

Information Collection Being Reviewed by the Federal Communications Commission

AGENCY: Federal Communications Commission.

ACTION: Notice and request for comments.

SUMMARY: As part of its continuing effort to reduce paperwork burdens, and as required by the Paperwork Reduction Act (PRA), the Federal Communications Commission (FCC or Commission) invites the general public and other Federal agencies to take this opportunity to comment on the following information collections. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

DATES: Written comments should be submitted on or before September 25, 2020. If you anticipate that you will be submitting comments, but find it difficult to do so within the period of time allowed by this notice, you should advise the contacts below as soon as possible.

ADDRESSES: Direct all PRA comments to Cathy Williams, FCC, via email PRA@fcc.gov and to Cathy.Williams@fcc.gov.

FOR FURTHER INFORMATION CONTACT: For additional information about the information collection, contact Cathy Williams at (202) 418-2918.

SUPPLEMENTARY INFORMATION: The FCC may not conduct or sponsor a collection of information unless it displays a currently valid Office of Management and Budget (OMB) control number. No person shall be subject to any penalty for failing to comply with a collection of information subject to the PRA that does not display a valid OMB control number.

As part of its continuing effort to reduce paperwork burdens, and as required by the PRA of 1995 (44 U.S.C. 3501-3520), the FCC invites the general public and other Federal agencies to take this opportunity to comment on the following information collections. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

OMB Control Number: 3060-0798.

Title: FCC Authorization for Radio Service Authorization; Wireless Telecommunications Bureau; Public Safety and Homeland Security Bureau.

Form Number: FCC Form 601.

Type of Review: Revision of a currently approved collection.

Respondents: Individual and households, Business or other for-profit entities, state, local, or tribal government, and not for profit institutions.

Number of Respondents: 255,552 respondents; 255,552 responses.

Estimated Time per Response: 0.5 to 1.25 hours.

Frequency of Response: Recordkeeping requirement; third party disclosure requirement, on occasion reporting requirement and periodic reporting requirement.

Obligation to Respond: Required to obtain or retain benefits. Statutory authority for these collections are contained in 47 U.S.C. 151, 152, 154, 154(i), 155(c), 157, 201, 202, 208, 214, 301, 302a, 303, 307, 308, 309, 310, 311, 314, 316, 319, 324, 331, 332, 333, 336, 534, 535, and 554 of the Communications Act of 1934.

Total Annual Burden: 224,008 hours.

Total Annual Cost: $71,934,000.

Privacy Impact Assessment: Yes.

Nature and Extent of Confidentiality: In general, there is no need for confidentiality with this collection of information.

Needs and Uses: FCC Form 601 is a consolidated, multi-part application form that is used for market-based and site-based licensing for wireless telecommunications services, including public safety licenses, which are filed through the Commission's Universal Licensing System (ULS). FCC Form 601 is composed of a main form that contains administrative information and a series of schedules used for filing technical and other information. This form is used to apply for a new license, to amend or withdraw a pending application, to modify or renew an existing license, cancel a license, request a duplicate license, submit requested notifications, request an extension of time to satisfy construction requirements, or request an administrative update to an existing license (such as mailing address change), request a Special Temporary Authority or Developmental License. Respondents are required to submit FCC Form 601 electronically, except in certain services specifically designated by the Commission.

The data on FCC Form 601 includes the FCC Registration Number (FRN), which serves a “common link” for all filings an entity has with the FCC. The Debt Collection Improvement Act of 1996 requires entities filing with the Commission to use an FRN. Records may include information about individuals or households, e.g., personally identifiable information or PII, and the use(s) and disclosure of this information are covered by the requirements of a system of records notice of `SORN,' FCC-WTB-1, “Wireless Services Licensing Records.” There are no additional impacts under the Privacy Act.

On April 23, 2020, the Commission Adopted a Report and Order and Further Notice of Proposed Rulemaking in ET Docket 18-295, FCC 20-51, that requires temporary fixed microwave licensees to register temporary fixed links in the ULS database in order to receive protection from unlicensed devices operating in the 6GHz band, a summary of which was published at 85 FR 31390 (May 26, 2020). Automated frequency coordination (AFC) administrators will use this information to determine where unlicensed devices can operate. Temporary fixed licensees were not previously required to file applications with the Commission when they commenced operation, so this is a new filing requirement. We estimate that 70 respondents, will file 1,050 responses per year (15 per licensee), with an estimated time burden of 525 hours (30 minutes per filing). In addition to creating this new filing requirement, two new data fields will be required to describe when the temporary fixed links will be operational, so that the AFCs will know when to protect the temporary fixed links. For this purpose a “start date” and “end date” will be added to the Form 601, Schedule I.

On May 13, 2020, the FCC adopted a Report and Order, FCC 20-67, in WT Docket No. 17-200, modified by an erratum released July 1, 2020, that establishes rules for broadband license operations in the 897.5-900.5/936.5-939.5 MHz segment of the 900 MHz band (896-901/935-940 MHz), a summary of which was published at 85 FR 43124 (July 16, 2020). The Commission seeks approval from OMB for the information collection requirements contained in the Report and Order, FCC 20-67. The requirements in §§ 27.1503(b)(1), (2), and (3) and (c)(1) and 27.1505(a) and (b) constitute revised information collections pursuant to the PRA. For the first three years of this collection, we estimate that 30 respondents will file 60 responses per year (two per licensee), with an estimate time burden of 30 hours (30 minutes per filing). We estimate that 30 respondents will file 60 responses (once at the six-year mark, and once at the 12-year mark of the 900 MHz broadband license term), with an estimate time burden of 30 hours in each of those two years (1 hour per filing).

Section 27.1503(b)(1) requires an applicant to file an application for a 900 MHz broadband license in accordance with part 1, subpart F, of the Commission's rules. The 900 MHz broadband service is a new service governed under part 27 of the Commission's rules. The Commission requests OMB approval to revise FCC Form 601 to add a new radio service code, a new Schedule N for the 900 MHz broadband service, and two new attachment types for the Eligibility Certification and Transition Plan.

Schedule N would be a new supplementary schedule for 900 MHz broadband service applicants to apply for the required license authorization in conjunction with the FCC 601 Main Form. In Schedule N, 900 MHz broadband service applicants would identify the market(s) to which the filing pertains and certifications that the applicant has attached an Eligibility Certification and Transition Plan, that the applicant will return licensed 900 MHz spectrum to the Commission, and that it will remit an anti-windfall payment if applicable.

Section 27.1503(b)(2) requires an applicant to file an Eligibility Certification as part of its application for a 900 MHz broadband license. In its Eligibility Certification, an applicant must list the licenses the applicant holds in the 900 MHz band to demonstrate that it holds licenses for more than 50% of the total licensed 900 MHz spectrum for the county, including credit for spectrum included in an application to acquire or relocate any covered incumbents filed on or after March 14, 2019. The Eligibility Certification must also include a statement that the applicant's Transition Plan details how it holds spectrum in the broadband segment and/or has reached an agreement to clear through acquisition or relocation, or demonstrate how it will provide interference protection to, covered incumbent licensees collectively holding licenses in the broadband segment for at least 90% of the site-channels in the county, and within 70 miles of the county boundary and geographically licensed channels where the license area completely or partially overlaps the county.

Section 27.1503(b)(3) requires an applicant to file a Transition Plan as part of its application for a 900 MHz broadband license. In its Transition Plan, an applicant must demonstrate one or more of the following for at least 90% of the site-channels in the county and within 70 miles of the county boundary, and geographically licensed channels where the license area completely or partially overlaps the county: (1) Agreement by covered incumbents to relocate form the broadband segment; (2) protection of site-based covered incumbents through compliance with minimum spacing criteria; (3) protection of site-based covered incumbents through new or existing letters of concurrence agreeing to lesser base station separations; (4) protection of geographically-based covered incumbents through private contractual agreements; and/or (5) evidence that it holds licenses for the site channels in the county and within 70 miles of the county boundary and geographically licensed channels where the license area completely or partially overlaps the county. The Transition Plan must describe in detail: (1) Descriptions of the agreements reached with covered incumbents to relocate and the applications that the parties to the agreements will file for spectrum in the narrowband segment in order to relocate or repack licensees; (2) descriptions of how the applicant will provide interference protection to, and/or acquire or relocate from the broadband segment, covered incumbents collectively holding licenses for at least 90% of the site-channels in the county and within 70 miles of the county boundary, and geographically licensed channels where the license area completely or partially overlaps the county, and/or evidence that it holds licenses for the site-channels and/or geographically licensed channels; (3) any rule waivers or other actions necessary to implement an agreement with a covered incumbent; and (4) such additional information as may be required. The Commission requires the applicant to include in the Transition Plan a certification from a frequency coordinator that the Transition Plan can be implemented consistent with the Commission's rules. The Commission allows an applicant seeking to transition multiple counties simultaneously to file a single Transition Plan that covers all of its county-based applications.

Section 27.1503(c)(1) requires an applicant to cancel its 900 MHz Specialized Mobile Radio and Business/Industrial/Land Transportation licenses, up to six megahertz, conditioned upon Commission grant of its license. An applicant would file FCC Form 601 to cancel existing licenses, but this information collection does not involve a revision of FCC Form 601.

Section 27.1505 requires a 900 MHz broadband licensee to meet performance requirements. Section 27.1505(a) requires an applicant to file a construction notification in accordance with § 1.946(d) of the Commission's rules. An applicant would file FCC Form 601 to file the construction notification, and this information collection would encompass adding a new radio service code for the 900 MHz broadband service. Pursuant to § 27.1505(b), licensees can satisfy performance requirement through population or geographic coverage. Under the population metric, a 900 MHz broadband licensee would be required to provide reliable signal coverage and offer broadband service to at least 45% of the population in its license area within six years of license grant and to at least 80% of the population in its license area within twelve years of license grant. Under the geographic coverage metric, a 900 MHz broadband licensee would be required to provide reliable signal coverage and offer broadband service to at least 25% of the geographic license area within six years of license grant and to at least 50% of the geographic license area within twelve years of license grant. To meet the broadband service obligation, the Commission expects licensees to deploy technologies that make intensive use of the entire 3/3 megahertz band segment and yield high uplink and downlink data rates and minimal latency sufficient to provide for real-time, two-way communications. The 900 MHz broadband licensees would demonstrate its compliance with § 27.1505(b) by filing an attachment to their FCC Form 601 construction notification filings.

Federal Communications Commission.
Marlene Dortch,
Secretary, Office of the Secretary.

[FR Doc. 2020-16202 Filed 7-24-20; 8:45 am]

BILLING CODE 6712-01-P